DEPARTMENT OF COMMERCE

Foreign-Trade Zones Board

[Docket 10-2011]

Foreign-Trade Zone 274—Butte-Silver Bow, MT; Application for Manufacturing Authority REC Silicon (Polysilicon and Silane Gas) Butte, MT

An application has been submitted to the Foreign-Trade Zones Board (the Board) by the City and County of Butte-Silver Bow, grantee of FTZ 274, requesting manufacturing authority on behalf of REC Silicon, located in Butte, Montana. The application was submitted pursuant to the provisions of the Foreign-Trade Zones Act, as amended (19 U.S.C. 81a-81u), and the regulations of the Board (15 CFR part 400). It was formally filed on February 11, 2011.

The REC Silicon facility (300 employees, 3,450 metric ton capacity) is located within Site 1 of FTZ 274. The facility is used for the manufacturing of polysilicon and silane gas for the photovoltaic industry using domestic and imported silicon metal (duty rate 5.3-5.5%). Materials sourced from abroad represent 8% of the value of the finished polysilicon and 5% of the value of the finished silane gas. REC Silicon has indicated that they will not admit foreign status silicon metal subject to antidumping or countervailing duty orders into the facility and would accept a restriction on such admissions.

FTZ procedures could exempt REC Silicon from customs duty payments on the foreign components used in export production. The company anticipates that some 95% of the plant's shipments will be exported. On its domestic sales, REC Silicon would be able to choose the duty rates during customs entry procedures that apply to polysilicon and silane gas (duty rate ranges from duty-free to 3.7%) for the imported silicon metal noted above. FTZ designation would further allow REC Silicon to realize logistical benefits through the use of weekly customs entry procedures. Customs duties also could possibly be deferred or reduced on foreign status production equipment. The request indicates that the savings from FTZ procedures would help improve the plant's international competitiveness.

In accordance with the Board's regulations, Elizabeth Whiteman of the FTZ Staff is designated examiner to evaluate and analyze the facts and information presented in the application and case record and to report findings and recommendations to the Board.

Public comment is invited from interested parties. Submissions (original and 3 copies) shall be addressed to the Board's Executive Secretary at the address below. The closing period for their receipt is April 18, 2011. Rebuttal comments in response to material submitted during the foregoing period may be submitted during the subsequent 15-day period to May 3, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

For further information, contact Elizabeth Whiteman at Elizabeth.Whiteman@trade.gov or (202) 482-0473.

Dated: February 11, 2011.
Andrew McGilvray,
Executive Secretary.

[FR Doc. 2011-3641 Filed 2-16-11; 8:45 am]

BILLING CODE P